FEDERAL MARITIME COMMISSION

Ocean Transportation Intermediary License; Reissuance

Notice is hereby given that the following Ocean Transportation Intermediary licenses have been reissued by the Federal Maritime Commission pursuant to section 19 of the Shipping Act of 1984 (46 U.S.C. chapter 409) and the regulations of the Commission pertaining to the licensing of Ocean Transportation Intermediaries, 46 CFR part 515.

License No. | Name/address | Date reissued
002391F | Silva, Leonel dba Best Forwarders, 411 North Oak Street, Inglewood, CA 90302 | September 22, 2011.
019453N | La Onion Shipping Co., Inc., 1680 Jerome Avenue, Bronx, NY 10453 | October 2, 2011.

Sandra L. Kusumoto,
Director, Bureau of Certification and Licensing.

[FR Doc. 2011-29085 Filed 11-9-11; 8:45 am]

BILLING CODE 6730-01-P